DEPARTMENT OF ENERGY

Federal Energy Regulatory Commission

Notice of Effectiveness of Exempt Wholesale Generator Status

| Docket Nos.
Pioneer Wind Park I, LLC | EG16-144-000
Cimarron Bend Wind Project II, LLC | EG16-145-000
Indeck Niles, LLC | EG16-146-000
Grant Plains Wind, LLC | EG16-147-000
Sunflower Wind Project, LLC | EG16-148-000
North Lancaster Ranch LLC | EG16-149-000
Pavant Solar II LLC | EG16-150-000
Dermott Wind, LLC | EG16-151-000
Innovative Solar 46, LLC | EG16-152-000
Summit Farms Solar, LLC | EG16-153-000
Cimarron Bend Assets, LLC | EG16-154-000
FL Solar 1, LLC | EG16-155-000
AL Solar A, LLC | EG16-156-000
Deerfield Wind Energy, LLC | EG16-157-000

Take notice that during the month of November 2016, the status of the above-captioned entities as Exempt Wholesale Generators became effective by operation of the Commission's regulations. 18 CFR 366.7(a).

Dated: December 21, 2016.
Nathaniel J. Davis, Sr.,
Deputy Secretary.

[FR Doc. 2016-31343 Filed 12-27-16; 8:45 am]

BILLING CODE 6717-01-P